SECURITIES AND EXCHANGE COMMISSION

Sunshine Act Meeting

Federal Register Citation of Previous Announcement: [68 FR 19240, April 18, 2003]

Status: Open Meeting.

Place: 450 Fifth Street, NW., Room 6600, Washington, DC.

Date and Time of Previously Announced Meeting: Thursday, April 24, 2003 at 10 a.m.

Change in the Meeting: Time Change.

The Open Meeting scheduled for Thursday, April 24, 2003 at 10 a.m. has been changed to Thursday, April 24, 2003 at 1 p.m.

At times, changes in Commission priorities require alterations in the scheduling of meeting items. For further information and to ascertain what, if any, matters have been added, deleted or postponed, please contact the Office of the Secretary at (202) 942-7070.

Dated: April 22, 2003.
Jonathan G. Katz,
Secretary.

[FR Doc. 03-10311 Filed 4-22-03; 3:52 pm]

BILLING CODE 8010-01-P